RAILROAD RETIREMENT BOARD

Proposed Data Collection Available for Public Comment and Recommendations

SUMMARY: In accordance with the requirement of Section 3506 (c)(2)(A) of the Paperwork Reduction Act of 1995 which provides opportunity for public comment on new or revised data collections, the Railroad Retirement Board will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

Repayment of Debt: OMB 3220-0169

When the Railroad Retirement Board (RRB) determines that an overpayment of Railroad Retirement Act (RRA) benefits has occurred, it initiates prompt action to notify the annuitant of the overpayment and to recover the money owed the RRB. In addition to the customary form of repayment (check, money order, annuity withholding), repayment of a debt owed the RRB can also be made by means of a credit card. To effect payment by credit card, the RRB utilizes Form G-421f, Repayment by Credit Card. Minor non-burden impacting editorial changes are being proposed to Form G-421f. One form is completed by each respondent. Completion is voluntary. RRB procedures pertaining to benefit overpayment determinations and the recovery of such benefits are prescribed in 20 CFR 255 and 340.

Estimate of Annual Respondent Burden

The estimated annual respondent burden is as follows:

Form #(s) | Annual responses | Estimated completion time (min) | Burden (hrs)
G-421f | 300 | 5 | 25

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 00-1117 Filed 1-14-00; 8:45 am]

BILLING CODE 7905-01-M